FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Federal Emergency Management Agency (FEMA) Individual Disaster Assistance Customer Satisfaction and Program Effectiveness Surveys.

Type of Information Collection: Revision of a currently approved collection.

OMB Number: 3067-0256.

Abstract: In response to Executive Order 12862 and the Government Performance and Results Act, the Response and Recovery Directorate (R&R) of the Federal Emergency Management Agency conducts surveys to obtain information about customer satisfaction and program effectiveness. The surveys help measure performance against standards and goals and helps interpret the effects of disaster-related policy changes or innovations. R&R will collect data via phone, mail and internet surveys and focus groups and plans to survey individual disaster applicants, state and local officials, other federal agencies, and voluntary agencies.

Affected Public: Individuals or households, Not-for-profit institutions, Federal Government, State, Local or Tribal Government, Business or other for-profit and Farms.

Number of Respondents: 96,720.

Estimated Total Annual Burden Hours: See Table Below.

Estimated Total Annual Cost to the Respondent: $386,880 or $4.00 per survey.

BILLING CODE 6718-01-P

BILLING CODE 6718-01-C

COMMENTS: Interested persons are invited to submit written comments on the proposed information collection to the Desk Officer for the Federal Emergency Management Agency, Office of Information and Regulatory Affairs, Office of Management and Budget, Washington, DC 20503 on or before April 9, 2001.

FOR FURTHER INFORMATION CONTACT: Requests for additional information or copies of the information collection should be made to Muriel B. Anderson, Chief, Records Management Branch, Program Services Division, Operations Support Directorate, Federal Emergency Management Agency, 500 C Street, SW., Room 316, Washington, DC 20472, telephone number (202) 646-2625, FAX number (202) 646-3524, or e-mail address: muriel.anderson@fema.gov.

Dated: February 28, 2001.
Reginald Trujillo,
Director, Program Services Division, Operations Support Directorate.

[FR Doc. 01-5846 Filed 3-8-01; 8:45am]

BILLING CODE 6718-01-P